DEPARTMENT OF DEFENSE

Department of the Air Force

[Docket ID: USAF-2010-0025]

Privacy Act of 1974; System of Records

AGENCY: Department of the Air Force; DoD.

ACTION: Notice to alter a system of records.

SUMMARY: The Department of the Air Force is proposing to alter a system of records notice in its existing inventory of records systems subject to the Privacy Act of 1974, (5 U.S.C. 552a), as amended.

DATES: The proposed action will be effective on November 17, 2010, unless comments are received that would result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, 703-696-6488.

SUPPLEMENTARY INFORMATION: The Department of the Air Force systems of records notices subject to the Privacy Act of 1974, (5 U.S.C. 552a), as amended, have been published in the Federal Register and are available from the Air Force Privacy Office, Air Force Privacy Act Office, Office of Warfighting Integration and Chief Information officer, ATTN: SAF/XCPPI, 1800 Air Force Pentagon, Washington, DC 20330-1800.

The proposed systems reports, as required by 5 U.S.C. 552a(r) of the Privacy Act, were submitted on September 24, 2010, to the House Committee on Oversight and Government Reform, the Senate Committee on Homeland Security and Governmental Affairs, and the Office of Management and Budget pursuant to paragraph 4c of Appendix I to Office of Management and Budget Circular No. A-130, “Federal Agency Responsibilities for Maintaining Records About Individuals,” dated February 8, 1996 (February 20, 1996; 61 FR 6427).

Dated: October 13, 2010.
Mitchell S. Bryman,
Alternate OSD Federal Register Liaison Officer, Department of Defense.

F071 AF OSI F

System name:

Investigative Applicant Processing Records (July 15, 2005; 62 FR 31793).

Changes:

* * * * *

System location:

Delete entry and replace with “Headquarters, Air Force Office of Special Investigations (AFOSI), 1535 Command Drive, Andrews AFB, MD 20762-7002.”

* * * * *

Categories of records in the system:

Delete entry and replace with “Name, Social Security Number (SSN), case file number, application documentation, school and college ability test results, results of the Air Force Office of Special Investigation (AFOSI) applicant inquiry, and the personnel security investigation concerning the individual.”

Authority for maintenance of the system:

Delete entry and replace with “10 U.S.C. 8013, Secretary of the Air Force; 10 U.S.C. 47, Uniform Code of Military Justice and 8012, 8013; DoD Directive 7730.47, Defense Incident Based Reporting System (DIBRS); 18 U.S.C. 922, Brady Handgun Violence Prevention Act; 28 U.S.C. 534, Uniform Federal Crime Reporting Act; 42 U.S.C. 10601, Victims Rights and Restitution Act of 1990; and E.O. 9397 (SSN), as amended.”

* * * * *

Storage:

Delete entry and replace with “Paper records and electronic storage media.”

Retrievability:

Delete entry and replace with “By individual's name, Social Security Number (SSN), or Case File Number.”

Safeguards:

Delete entry and replace with “Records are accessed by custodian of the records system and by persons responsible for servicing the records system in performance of their official duties who are properly screened and cleared for need-to-know. Buildings are equipped with alarms, security guards, and/or security-controlled areas accessible only to authorized persons. Electronically and optically stored records are maintained in “fail-safe” system software with password-protected access.”

Retention and disposal:

Delete entry and replace with “Disapproved applications are maintained at the Headquarters Office of Special Investigation and destroyed 10 years after disapproval.

Approved applications are maintained at the Headquarters Office of Special Investigation and destroyed 10 years after individuals' termination, decertification, discharge, or reassignment.

Applications maintained at the Air Force Office of Special Investigation field units are destroyed 1 year after processing is completed or when no longer needed whichever is sooner.”

System manager(s) and address:

Delete entry and replace with “Director of Warfighting Integration, HQ AFOSI/XI, 1535 Command Drive, Andrews AFB, MD 20762-7002.”

Notification procedure:

Delete entry and replace with “Individuals seeking to determine whether information about themselves is contained in this system should address written inquiries to the Chief, Information Release Branch, HQ AFOSI/XILI, ATTN: Freedom of Information/Privacy Act Officer, P.O. Box 2218, Waldorf, MD 20604-2218.

Requester must provide their name, address, phone number, e-mail address, a brief description of the information they are seeking and are required to sign and date the penalty of perjury clause attesting that they are the person they say they are.”

Record access procedures:

Delete entry and replace with “Individuals seeking access to information about themselves contained in this system should address written inquiries to the Chief, Information Release Branch, HQ AFOSI/XILI, ATTN: Freedom of Information/Privacy Act Officer, P.O. Box 2218, Waldorf, MD 20604-2218.

Requester must provide their name, address, phone number, e-mail address, a brief description of the information they are seeking and are required to sign and date the penalty of perjury clause attesting that they are the person they say they are.”

Contesting record procedures:

Delete entry and replace with “The Air Force rules for accessing records, and for contesting contents and appealing initial agency determinations are published in Air Force Instruction 33-332; 32 CFR part 806b; or may be obtained from the system manager.”

* * * * *

F071 AF OSI F

System name:

Investigative Applicant Processing Records.

System location:

Headquarters, Air Force Office of Special Investigations (AFOSI), 1535 Command Drive, Andrews AFB, MD 20762-7002.

Categories of individuals covered by the system:

All AFOSI personnel, allocations and applicants for AFOSI duty.

Categories of records in the system:

Name, Social Security Number (SSN), case file number, application documentation, school and college ability test results, results of the Air Force Office of Special Investigation (AFOSI) applicant inquiry, and the personnel security investigation concerning the individual.

Authority for maintenance of the system:

10 U.S.C. 8013, Secretary of the Air Force; 10 U.S.C. 47, Uniform Code of Military Justice and 8012, 8013; DoD Directive 7730.47, Defense Incident Based Reporting System (DIBRS); 18 U.S.C. 922, Brady Handgun Violence Prevention Act; 28 U.S.C. 534, Uniform Federal Crime Reporting Act; 42 U.S.C. 10601, Victims Rights and Restitution Act of 1990; and E.O. 9397 (SSN), as amended.

Purpose(s):

Compiled to assist in the selection and retention of Air Force Office of Special Investigation personnel.

Used by the Air Force Offices of Special Investigation Applicant Review Board and the Director of Personnel Management to select Air Force Office of Special Investigation trainees and support personnel.

Used by the Commander, Air Force Office of Special Investigation to reassign or retain Air Force Office of Special Investigation personnel.

Routine uses of records maintained in the system, including categories of users and the purposes of such uses:

In addition to those disclosures generally permitted under 5 U.S.C. 552a(b) of the Privacy Act of 1974, these contained therein may specifically be disclosed outside the DoD as a routine use pursuant to 5 U.S.C. 552a(b)(3) as follows:

The DoD `Blanket Routine Uses' published at the beginning of the Air Force's compilation of systems of records notices apply to this system.

Policies and practices for storing, retrieving, accessing, retaining, and disposing of records in the system:

Storage:

Paper records and electronic storage media.

Retrievability:

By individual's name, Social Security Number (SSN), or Case File Number.

Safeguards:

Records are accessed by custodian of the records system and by persons responsible for servicing the records system in performance of their official duties who are properly screened and cleared for need-to-know. Buildings are equipped with alarms, security guards, and/or security-controlled areas accessible only to authorized persons. Electronically and optically stored records are maintained in “fail-safe” system software with password-protected access.

Retention and disposal:

Disapproved applications are maintained at the Headquarters Office of Special Investigation and destroyed 10 years after disapproval.

Approved applications are maintained at the Headquarters Office of Special Investigation and destroyed 10 years after individuals' termination, decertification, discharge, or reassignment.

Applications maintained at the Air Force Office of Special Investigation field units are destroyed 1 year after processing is completed or when no longer needed whichever is sooner.

System manager(s) and address:

Director of Warfighting Integration, HQ AFOSI/XI, 1535 Command Drive, Andrews AFB, MD 20762-7002.

Notification procedures:

Individuals seeking to determine whether information about themselves is contained in this system should address written inquiries to the Chief, Information Release Branch, HQ AFOSI/XILI, ATTN: Freedom of Information/Privacy Act Officer, P.O. Box 2218, Waldorf, MD 20604-2218.

Requester must provide their name, address, phone number, e-mail address, a brief description of the information they are seeking and are required to sign and date the penalty of perjury clause attesting that they are the person they say they are.

Record access procedures:

Individuals seeking access to information about themselves contained in this system should address written inquiries to the Chief, Information Release Branch, HQ AFOSI/XILI, ATTN: Freedom of Information/Privacy Act Officer, P.O. Box 2218, Waldorf, MD 20604-2218.

Requester must provide their name, address, phone number, e-mail address, a brief description of the information they are seeking and are required to sign and date the penalty of perjury clause attesting that they are the person they say they are.

Contesting record procedures:

The Air Force rules for accessing records, and for contesting contents and appealing initial agency determinations are published in Air Force Instruction 33-332; 32 CFR part 806b; or may be obtained from the system manager.

Record source categories:

Information obtained from previous employers, financial institutions, educational institutions, police and investigating officers, the bureau of motor vehicles, a state or local government, an international organization, a corporation, witnesses, or source documents (such as reports) prepared on behalf of the Air Force by boards, committees, panels, auditors, and so forth. Data is extracted from individual military or civilian personnel records.

Exemptions claimed for the system:

Investigatory material compiled solely for the purpose of determining suitability, eligibility, or qualifications for federal civilian employment, military service, federal contracts, or access to classified information may be exempt pursuant to 5 U.S.C. 552a(k)(5), but only to the extent that such material would reveal the identity of a confidential source.

An exemption rule for this record system has been promulgated in accordance with 5 U.S.C. 553(b)(1), (2) and (3) and (e) and published in 32 CFR part 806b. For additional information, contact the system manager.

[FR Doc. 2010-26188 Filed 10-15-10; 8:45 am]

BILLING CODE 5001-06-P